ENVIRONMENTAL PROTECTION AGENCY

[Petition IV-2021-11; FRL-10424-01-R4]

Clean Air Act Operating Permit Program; Petition for Objection to State Operating Permit for University of North Carolina at Chapel Hill (Orange County, North Carolina)

AGENCY: Environmental Protection Agency (EPA).

ACTION: Notice of final order on petition to object to state operating permit.

SUMMARY: The Environmental Protection Agency (EPA) Administrator signed an Order, dated November 8, 2022, denying the petition submitted by the Center for Biological Diversity, Sierra Club, and the Town of Carrboro, North Carolina (Petitioners), objecting to a proposed Clean Air Act (CAA) title V operating permit issued to the University of North Carolina at Chapel Hill (Permittee) located in Orange County, North Carolina. The Order responds to an October 1, 2021, petition requesting that the EPA object to the final operating permit no. 03069T36. The title V permit was issued by the North Carolina Department of Environmental Quality, Division of Air Quality (DAQ). The Order constitutes a final action on the petition addressed therein.

ADDRESSES: Copies of the Order, the petition, and all pertinent information relating thereto are on file at the following location: EPA Region 4; Air and Radiation Division; 61 Forsyth Street SW, Atlanta, Georgia 30303-8960. The Order is also available electronically at the following address: https://www.epa.gov/system/files/documents/202211/UNC%20Cogeneration%20Order_11-8-22.pdf.

FOR FURTHER INFORMATION CONTACT: Art Hofmeister, Air Permits Section, EPA Region 4, at (404) 562-9115 or hofmeister.art@epa.gov.

SUPPLEMENTARY INFORMATION: The CAA affords the EPA a 45-day period to review and, as appropriate, the authority to object to operating permits proposed by state permitting authorities under title V of the CAA, 42 U.S.C. 7661-7661f. Section 505(b)(2) of the CAA and 40 CFR 70.8(d) authorize any person to petition the EPA Administrator to object to a title V operating permit within 60 days after the expiration of the EPA's 45-day review period if the EPA has not objected on its own initiative. Petitions must be based only on objections to the permit that were raised with reasonable specificity during the public comment period provided by the state, unless the petitioner demonstrates that it was impracticable to raise these issues during the comment period or the grounds for the issues arose after this period. Pursuant to sections 307(b) and 505(b)(2) of the CAA, a petition for judicial review of those parts of the Order that deny issues in the petition may be filed in the United States Court of Appeals for the appropriate circuit within 60 days from the date this notice is published in the Federal Register.

Petitioners submitted a petition requesting that the EPA object to the proposed CAA title V operating permit no. 03069T36 issued by DAQ to the Permittee. Petitioners' claims include that the permit: fails to include emission limits that assure compliance with the national ambient air quality standards for sulfur dioxide (SO2) and nitrogen dioxide; and fails to include monitoring, recordkeeping, and reporting provisions to assure compliance with SO2, particulate matter, and visible emissions limits.

On November 8, 2022, the Administrator issued an Order denying the petition. The Order explains the EPA's bases for denying the petition.

Dated: December 16, 2022.
Daniel Blackman,
Regional Administrator, Region 4.

[FR Doc. 2022-27900 Filed 12-22-22; 8:45 am]

BILLING CODE 6560-50-P